ENVIRONMENTAL PROTECTION AGENCY

[EPA-HQ-OPP-2012-0101; FRL-9348-5]

Pesticide Products; Registration Applications

AGENCY: Environmental Protection Agency (EPA).

ACTION: Notice.

SUMMARY: This notice announces receipt of applications to register pesticide products containing new active ingredients not included in any currently registered products pursuant to the provisions of section 3(c)(4) of the Federal Insecticide, Fungicide, and Rodenticide Act (FIFRA), as amended.

DATES: Comments must be received on or before July 27, 2012.

ADDRESSES: Submit your comments, identified by docket identification (ID) number EPA-HQ-OPP-2012-0101; FRL-9348-5, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm. Additional instructions on commenting or visiting the docket, along with more information about dockets generally, is available at http://www.epa.gov/dockets.

FOR FURTHER INFORMATION CONTACT: A contact person is listed at the end of each registration application summary and may be contacted by telephone, email, or mail. Mail correspondence to the Biopesticides and Pollution Prevention Division (7511P) or the Registration Division (7505P), Office of Pesticide Programs, Environmental Protection Agency, 1200 Pennsylvania Ave. NW., Washington, DC 20460-0001. As part of the mailing address, include the contact person's name, division, and mail code.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number). If you are commenting in a docket that addresses multiple products, please indicate to which file symbol(s) your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA received applications as follows to register pesticide products containing active ingredients not included in any previously registered products pursuant to the provision of section 3(c)(4) of FIFRA. Notice of receipt of these applications does not imply a decision by the Agency on the applications.

1. File Symbol: 71711-GI. Docket Number: EPA-HQ-OPP-2011-0971. Applicant: Nichino America, Inc., 4550 New Linden Hill Road, Suite 501, Wilmington, DE 19808. Product name: Pyrifluquinazon Technical. active ingredient: Pyrifluquinazon: [1-acetyl-1,2,3,4-tetrahydro-3-[(3-pyridylmethyl) amino]-6-[1,2,2,2-tetrafluoro-1-(trifluoromethyl)ethyl]quinazolin-2-one] at 99.50%. Proposed classification/use: Formulation of products for indoor greenhouse use on ornamental plants. Contact: Clayton Myers, Registration Division, (703) 347-8874, email address: myers.clayton@epa.gov.

2. File Symbol: 71711-GT. Docket Number: EPA-HQ-OPP-2011-0971. Applicant: Nichino America, Inc., 4550 New Linden Hill Road, Suite 501, Wilmington, DE 19808. Product name: Pyrifluquinazon Insecticide. Active ingredient: Pyrifluquinazon: [1-acetyl-1,2,3,4-tetrahydro-3-[(3-pyridylmethyl)amino]-6-[1,2,2,2-tetrafluoro-1-(trifluoromethyl)ethyl]quinazolin-2-one] at 20.0%. Proposed classification/use: Indoor greenhouse use on ornamental plants. Contact: Clayton Myers, Registration Division, (703) 347-8874, email address: myers.clayton@epa.gov.

3. File Symbol: 71840-RE. Docket Number: EPA-HQ-OPP-2012-0265. Applicant: Becker Underwood, Inc., 801 Dayton Avenue, P.O. Box 667, Ames, IA 50010. Product name: Bacillus pumilus strain BU F-33 Technical. Active ingredient: Elicitor of Induced Systemic Resistance with Bacillus pumilus strain BU F-33 at 95%. Proposed classification/use: Manufacturing use product. Contact: Jeannine Kausch, (703) 347-8920, email address: kausch.jeannine@epa.gov.

4. File Symbol: 71840-RG. Docket Number: EPA-HQ-OPP-2012-0265. Applicant: Becker Underwood, Inc., 801 Dayton Avenue, P.O. Box 667, Ames, IA 50010. Product name: Integral® F-33. Active ingredient: Elicitor of Induced Systemic Resistance with Bacillus pumilus strain BU F-33 at 5%. Proposed classification/use: To elicit systemic changes in plants, thereby activating their own defense systems and culminating in enhanced protection against certain virus, fungi, and bacteria pathogens. Contact: Jeannine Kausch, (703) 347-8920, email address: kausch.jeannine@epa.gov.

5. File Symbol: 71840-RN. Docket Number: EPA-HQ-OPP-2012-0134. Applicant: Becker Underwood, Inc., 801 Dayton Avenue, P.O. Box 667, Ames, IA 50010. Product name: Methyl Jasmonate Technical Grade. Active ingredient: Biochemical Systemic Acquired Resistance (SAR) Inducer with Methyl Jasmonate at 98.7%. Proposed classification/use: Manufacturing use product. Contact: Chris Pfeifer, (703) 308-0031, email address: pfeifer.chris@epa.gov.

6. File Symbol: 71840-RR. Docket Number: EPA-HQ-OPP-2012-0134. Applicant: Becker Underwood, Inc., 801 Dayton Avenue, P.O. Box 667, Ames, IA 50010. Product name: Scimitar. Active ingredient: Biochemical SAR Inducer with Methyl Jasmonate at .037%. Proposed classification/use: Seed treatment/SAR inducer. Contact: Chris Pfeifer, (703) 308-0031, email address: pfeifer.chris@epa.gov.

7. File Symbol: 82940-G. Docket Number: EPA-HQ-OPP-2012-0251. Applicant: Ann M. Tillman, on behalf of Actagro, Pyxis Regulatory Consulting, Inc., 4110 136th St. NW., Gig Harbor, WA 98332. Product name: PM-4300 Organic Acids. Active ingredient: Plant growth regulator with Organic Acids derived from Leonardite at 18.5%. Proposed classification/use: For formulation purposes. Contact: Menyon Adams, (703) 347-8496, email address: adams.menyon@epa.gov.

8. File Symbol: 82940-E. Docket Number: EPA-HQ-OPP-2012-0251. Applicant: Ann M. Tillman, on behalf of Actagro, Pyxis Regulatory Consulting, Inc., 4110 136th St. NW., Gig Harbor, WA 98332. Product name: Phocon. Active ingredient: Plant growth regulator with Organic Acids derived from Leonardite at 12.0%. Proposed classification/use: Plant growth regulator uses. Contact: Menyon Adams, (703) 347-8496, email address: adams.menyon@epa.gov.

9. File Symbol: 88886-R. Docket Number: EPA-HQ-OPP-2012-0307. Applicant: Omega Protein, Inc., 2105 City West Boulevard, Suite 500, Houston, TX 77042-2823. Product name: SeaCide Technical. Active ingredient: Biochemical insecticide/miticide/fungicide with menhaden fish oil at 100%. Proposed classification/use: Manufacturing use product. Contact: Chris Pfeifer, (703) 308-0031, email address: pfeifer.chris@epa.gov.

10. File Symbol: 88886-E. Docket Number: EPA-HQ-OPP-2012-0307. Applicant: Omega Protein, Inc., 2105 City West Boulevard, Suite 500, Houston, TX 77042-2823. Product name: SeaCide. Active ingredient: Biochemical insecticide/miticide/fungicide with menhaden fish oil at 93%. Proposed classification/use: Foliar spray to control insects, mites and fungi. Contact: Chris Pfeifer, (703) 308-0031, email address: pfeifer.chris@epa.gov.

List of Subjects

Environmental protection, Pesticides and pests.

Dated: June 15, 2012.
Daniel J. Rosenblatt,
Acting Director, Registration Division, Office of Pesticide Programs.

[FR Doc. 2012-15554 Filed 6-26-12; 8:45 am]

BILLING CODE 6560-50-P